DEPARTMENT OF HEALTH AND HUMAN SERVICES

National Institutes of Health

Center for Scientific Review; Amended Notice of Meeting

Notice is hereby given of a change in the meeting of the Macromolecular Structure and Function B Study Section, October 17, 2013, 8:00 a.m. to October 17, 2013, 7:00 p.m., Amalfi Hotel, 20 West Kinzie Street, Chicago, IL 60654 which was published in the Federal Register on September 23, 2013, 78 FR 184 pgs. 58323-58324.

The meeting will be held at the National Institutes of Health, 6701 Rockledge Dr., Bethesda, MD 20892. The meeting will start on December 04, 2013 at 9:30 a.m. and will end on December 04, 2013 at 7:30 p.m. The meeting is closed to the public.

Dated: October 24, 2013.
Carolyn A. Baum,
Program Analyst, Office of Federal Advisory Committee Policy.

[FR Doc. 2013-25655 Filed 10-29-13; 8:45 am]

BILLING CODE 4140-01-P